FEDERAL COMMUNICATIONS COMMISSION

[MB Docket No. 16-306, GN Docket No. 12-268; DA 17-43]

OET Announcement of Release of Version 2.1 of TVSTUDY for Processing Construction Permit Applications Filed With the Media Bureau Implementing the Results of the Repacking Process

AGENCY: Federal Communications Commission.

ACTION: Notice.

SUMMARY: The Office of Engineering and Technology (OET) announces the release of a version of the TVStudy software (Version 2.1) that will be used by the Media Bureau to process broadcast station construction permit applications during the 39-month post-incentive auction period to transition reassigned broadcast stations to their new channel assignments. The new version is available on the Commission's Web site and is intended to facilitate application processing. It includes an updated “TV Interference Check” mode, new map output types and options, support for additional or updated underlying data sources, and several new analysis modes.

DATES: OET released the Public Notice and Version 2.1 of TVStudy for processing construction permit applications on February 6, 2017.

ADDRESSES: Federal Communications Commission, 445 12th Street SW., Washington, DC 20554.

FOR FURTHER INFORMATION CONTACT: For further information regarding the TVStudy software and to submit bug reports, contact Mark Colombo at (202) 418-7611 or Mark.Colombo@fcc.gov, or Kevin Harding at (202) 418-7077 or Kevin.Harding@fcc.gov.

SUPPLEMENTARY INFORMATION: The Public Notice includes a changelog that describes the full list of features and functions added to Version 2.1 from the prior software version.

This is a summary of the Commission's Public Notice (PN) released February 6, 2017, DA 17-43, MB Docket No. 16-306 and GN Docket No. 12-268, The full text of this document is available for inspection and copying during normal business hours in the FCC Reference Center (Room Cy-A257), 445 12th Street SW., Washington, DC 20554. The full text may also be downloaded at: www.fcc.gov. People with Disabilities: To request materials in accessible formats for people with disabilities (braille, large print, electronic files, audio format), send an email to fcc504@fcc.gov or call the Consumer & Governmental Affairs Bureau at (202) 418-0530 (voice), (202) 418-0432 (tty).

Federal Communications Commission.
Ronald T. Repasi,
Deputy Chief, Office of Engineering and Technology.

[FR Doc. 2017-04784 Filed 3-9-17; 8:45 am]

BILLING CODE 6712-01-P